COMMODITY FUTURES TRADING COMMISSION

Agency Information Collection Activities Under OMB Review

AGENCY: Commodity Futures Trading Commission.

ACTION: Notice of review.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before August 18, 2017.

ADDRESSES: Comments regarding the burden estimated or any other aspect of the information collection, including suggestions for reducing the burden, may be submitted directly to the Office of Information and Regulatory Affairs (OIRA) in OMB, within 30 days of the notice's publication, by email at OIRAsubmissions@omb.eop.gov. Please identify the comments by OMB Control No. 3038-0103. Please provide the Commission with a copy of all submitted comments at the address listed below. Please refer to OMB Reference No. 3038-0103, found on http://reginfo.gov. Comments may also be mailed to the Office of Information and Regulatory Affairs, Office of Management and Budget, Attention: Desk Officer for the Commodity Futures Trading Commission, 725 17th Street, NW., Washington, DC 20503, and to Christopher Kirkpatrick, Secretary of the Commission, Commodity Futures Trading Commission, Three Lafayette Centre, 1155 21st Street NW., Washington, DC 20581; or through the Agency's Web site at http://comments.cftc.gov. Follow the instructions for submitting comments through the Web site.

A copy of the supporting statements for the collection of information discussed above may be obtained by visiting http://reginfo.gov. All comments must be submitted in English, or if not, accompanied by an English translation. Comments will be posted as received to http://www.cftc.gov.

FOR FURTHER INFORMATION CONTACT: Richard Mo, Special Counsel, Division of Market Oversight, at 202-418-7637 or rmo@cftc.gov or David E. Aron, Special Counsel, Division of Market Oversight, at 202-418-6621 or daron@cftc.gov, and refer to OMB Control No 3038-0103.

SUPPLEMENTARY INFORMATION:

Title: Ownership and Control Reports, Forms 102/102S, 40/40S, and 71 (Trader and Account Identification Reports) (OMB Control No. 3038-0103). This is a request for extension of a currently approved information collection.

Abstract: The Ownership and Control Reports (OCR) rules ¹ created new information collection requirements via §§ 17.01, 18.04, 18.05, and 20.5. Specifically, § 17.01 provides for the filing of Form 102A, Form 102B and Form 71, as follows:

¹ See Commission, Final Rule: Ownership and Control Reports, Forms 102/102S, 40/40S, and 71, 78 FR 69178 (November 18, 2013). Terms used herein and not otherwise defined herein shall have the meaning assigned to such terms in the OCR rules or in the Commission's regulations.

• Pursuant to § 17.01(a), futures commission merchants (“FCMs”), clearing members, and foreign brokers shall identify new special accounts to the Commission on Form 102A;²

² Form 102A is an updated version of old Form 102, which was titled “Identification of Special Accounts.” Form 102A collects information with respect to position-based special accounts in the futures market. Form 102A also requires clearing members to identify the individual trading accounts underlying these special accounts.

• pursuant to § 17.01(b), clearing members shall identify volume threshold accounts to the Commission on Form 102B; and

• pursuant to § 17.01(c), omnibus volume threshold account originators and omnibus reportable sub-account originators shall identify reportable sub-accounts to the Commission on Form 71 when requested via a special call by the Commission or its designee.

Additional reporting requirements arise from § 18.04, which results in the collection of information via Form 40 from and regarding traders who own, hold, or control reportable positions; volume threshold account controllers; persons who own volume threshold accounts; reportable sub-account controllers; and persons who own reportable sub-accounts.

Reporting requirements also arise from § 20.5(a), which requires 102S reporting entities to submit Form 102S for swap counterparty or customer consolidated accounts with reportable positions. In addition, § 20.5(b) requires every person subject to books or records under current § 20.6 to complete a 40S filing after a special call upon such person by the Commission.

In addition to the reporting requirements summarized above, § 18.05 imposes recordkeeping requirements upon: (1) Traders who own, hold, or control a reportable futures or options on futures position; (2) volume threshold account controllers; (3) persons who own volume threshold accounts; (4) reportable sub-account controllers; and (5) persons who own reportable sub-accounts.

A 60-day notice of intent to renew collection 3038-0103 (the “60-Day Notice”) was published in the Federal Register at 82 FR 12944 (March 8, 2017). In response to the 60-day Notice, the Commission received four comment letters from four entities, namely (a) the National Rural Electric Cooperative Association; (b) the Commercial Energy Working Group; (c) the International Energy Credit Association; and (d) Capital Confirmation, Inc. (non-substantive comment). The comment letters are available through the Commission's Web site at: https://comments.cftc.gov/PublicComments/CommentList.aspx?id=1781.

Burden Statement: The Commission is updating its burden estimates in response to comment letters received. The Commission estimates the burden of this collection of information as follows:

Type of respondent | Number of reporting parties per year | Annualized burden per reporting party (hours) | Total annual industry burden (hours) | Estimated wage rate | Annual industry costs
Form 102A
FCMs, clearing members, and foreign brokers | 260 | 106 | 27,560 | $75.13 | $2,070,583
Form 102B
Clearing members | 175 | 106 | 18,550 | $75.13 | $1,393,662
Form 71
Originators of omnibus volume threshold accounts or omnibus reportable sub-accounts | 762 | 8 | 6,096 | $75.13 | $457,992
Form 40 (arising from Form 102A)
Special account owners and controllers | 5,250 | 5 | 26,250 | $75.13 | $1,972,163
Form 40 (arising from Form 102B and Form 71)
Volume threshold account controllers and owners, reportable sub-account controllers and owners | 18,920 | 5 | 94,600 | $75.13 | $7,107,298
Form 102S
Clearing members and swap dealers | 39 | 106 | 4,134 | $75.13 | $310,587
Form 40S
Persons subject to books and records requirements under § 20.6 | 2,508 | 5 | 12,540 | $75.13 | $942,130
§ 18.05 Recordkeeping Burden
Volume threshold account controllers and owners, reportable sub-account controllers and owners, and traders who own, hold, or control reportable futures or option positions | 53 | 5 | 265 | $75.13 | $19,909

Authority: 44 U.S.C. 3501 et seq.

Dated: July 12, 2017.
Robert N. Sidman,
Deputy Secretary of the Commission.

[FR Doc. 2017-15091 Filed 7-18-17; 8:45 am]

BILLING CODE 6351-01-P